DEPARTMENT OF THE INTERIOR

Bureau of Land Management

[CO-921-05-1320-EL; COC-70615]

Notice of Public Meeting, To Receive for Comments on an Environmental Analysis, Finding of No Significant Impact, Maximum Economic Recovery Report, and Fair Market Value for Coal Lease Application COC-70615

AGENCY: Bureau of Land Management, Interior.

ACTION: Notice of public meeting.

SUMMARY: Bureau of Land Management (BLM), Colorado State Office, Lakewood, Colorado, hereby gives notice that the public meeting will be held to receive comments on the Environmental Analysis (EA), Finding of No Significant Impact (FONSI), Maximum Economic Recovery (MER), and Fair Market Value (FMV) of federal coal to be offered for a competitive lease sale. Coal Lease By Application (LBA) COC-70615 was filed by Oxbow Mining, LLC. The BLM plans to offer for competitive lease 789.79 acres of Federal coal in Gunnison County, Colorado.

DATES: The public meeting will be held at 7 p.m., Wednesday, July 8, 2009. Written comments should be received no later than July 22, 2009.

ADDRESSES: The public meeting will be held in the Paonia Town Hall located at 214 Grand Avenue, Paonia, Colorado. Written comments should be addressed to the Uncompahgre Field Office Manager, Uncompahgre Field Office, 2505 South Townsend Avenue, Montrose, Colorado 81401.

FOR FURTHER INFORMATION CONTACT: Field Office Manager, Uncompahgre Field Office at the address above, or by telephone at 970-240-5300.

SUPPLEMENTARY INFORMATION: BLM hereby gives notice that a public meeting will be held on Wednesday, July 8, 2009, at 7 p.m., at the Paonia Town Hall at the address given above. An LBA was filed by Oxbow Mining, LLC. The BLM offers for competitive lease federal coal in the lands outside established coal production regions described as:

T. 13 S., R. 90 NW., 6th P.M., Sections 3, 4, 5, more particularly described as follows:

Beginning at a point on the North Section line at the Section Corner common to Sections 4 and 5; thence S. 87°22′08″ E. 5765.75 feet; thence S. 87°32′05″ E. 1604.94 feet; thence S. 0°04′31″ W. 4246.44 feet; thence N. 86°45′23″ W. 1558.38 feet; thence N. 84°12′17″ W. 5148.60 feet; thence N. 86°44′37″ W. 1321.91 feet; to the existing lease line for Coal lease COC-61357; thence along said existing lease line N. 10°00′13″ W. 1382.68 feet; thence N. 86°08′20″ W. 390.65 feet; thence N. 00°1135.85 feet; to the southeasterly boundary of Tract 4; thence N. 14°36′45″ E. 1463.19 feet; along said southeasterly boundary of Tract 4; thence S. 87°18′59″ E. 902.22 feet; along the north section line of section 5 to the Point of beginning.

Containing approximately 789.79 acres in Gunnison County, Colorado.

The coal resource to be offered is limited to coal recoverable by underground mining methods. One purpose of the meeting is to obtain public comments on the following items:

(1) The method of mining to be employed to obtain maximum economic recovery of the coal,

(2) The impact that mining the coal in the proposed leasehold may have on the area, and

(3) The methods of determining the fair market value of the coal to be offered.

(4) EA and the FONSI.

In addition, the public is invited to submit written comments concerning the MER and FMV of the coal resource. Public comments will be utilized in establishing FMV for the coal resource in the described lands. Comments should address specific factors related to fair market value including, but not limited to:

1. The quality and quantity of the coal resource.

2. The price that the mined coal would bring in the market place.

3. The cost of producing the coal.

4. The interest rate at which anticipated income streams would be discounted.

5. Depreciation and other accounting factors.

6. The mining method or methods which would achieve maximum economic recovery of the coal.

7. Documented information on the terms and conditions of recent and similar coal land transactions in the lease area, and

8. Any comparable sales data of similar coal lands in the lease area.

Written requests to testify orally at the July 8, 2009, public meeting should be received at the Uncompahgre Field Office prior to the close of business July 8, 2009. Those who indicate they wish to testify when they register at the meeting may have an opportunity if time is available. If any information submitted as comments are considered to be proprietary by the commenter, the information should be labeled as such and stated in the first page of the submission. Written comments on the MER, and FMV should be sent to the Uncompahgre Field Office at the above address prior to the close of business on July 22, 2009, the end of the 30 day public comment period.

Substantive comments, whether written or oral, will receive equal consideration prior to any lease offering. The MER Report is available from the Uncompahgre Field Office upon request. A copy of the MER Report, the case file, and the comments submitted by the public, except those portions identified as proprietary by the commenter and meeting exemptions stated in the Freedom of Information Act, will be available for public inspection after July 22, 2009, at the Colorado State Office, 2850 Youngfield, Lakewood, Colorado 80215.

Before including your address, phone number, e-mail address, or other personal identifying information in your comment, you should be aware that your entire comment—including your personal identifying information—may be made publicly available at any time. While you can ask us in your comment to withhold your personal identifying information from public review, we cannot guarantee that we will be able to do so.

Dated: May 21, 2009.
Kurt M. Barton,
Solid Minerals LLE, Division of Energy, Lands and Minerals.

[FR Doc. E9-12333 Filed 5-27-09; 8:45 am]

BILLING CODE 4310-JB-P